DEPARTMENT OF ENERGY

Federal Energy Regulatory Commission

[Docket No. RP00-254-003]

Dauphin Island Gathering Partners; Notice of Refund Report

November 2, 2000.

Take notice that on October 30, 2000, Dauphin Island Gathering Partners (DIGP) tendered for filing its refund report in Docket Nos. RP00-254-000 and RP00-254-001.

DIGP states that this filing and the refunds were made to comply with the Commission's May 23, 2000 Letter Order. DIGP states that refunds were paid on August 30, 2000 and October 12, 2000.

DIGP states that copies of this filing are being served contemporaneously on all participants listed on the service list in this proceeding and on all persons who are required by the Commission's regulations to be served with the application initiating these proceedings.

Any person desiring to protest said filing should file a protest with the Federal Energy Regulatory Commission, 888 First Street, NE., Washington, DC 20426, in accordance with Section 385.211 of the Commission's Rules and Regulations. All such protests must be filed on or before November 9, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28637 Filed 11-7-00; 8:45 am]

BILLING CODE 6717-01-M